DEPARTMENT OF THE INTERIOR

National Park Service

[NPS-WASO-NAGPRA-NPS0031603; PPWOCRADN0-PCU00RP14.R50000]

Notice of Intent To Repatriate Cultural Items: Fort Lewis College, Durango, CO

AGENCY: National Park Service, Interior.

ACTION: Notice.

SUMMARY: Fort Lewis College, in consultation with the appropriate Indian Tribes or Native Hawaiian organizations, has determined that the cultural items listed in this notice meet the definition of unassociated funerary objects. Lineal descendants or representatives of any Indian Tribe or Native Hawaiian organization not identified in this notice who wish to claim these cultural items should submit a written request to Fort Lewis College, via the NAGPRA Liaison. If no additional claimants come forward, transfer of control of the cultural items to the lineal descendants, Indian Tribes, or Native Hawaiian organizations stated in this notice may proceed.

DATES: Lineal descendants or representatives of any Indian Tribe or Native Hawaiian organization not identified in this notice who wish to claim these cultural items should submit a written request with information in support of the claim to Fort Lewis College, via the NAGPRA Liaison at the address in this notice by April 21, 2021.

ADDRESSES: Kathleen Fine-Dare, Ph.D., NAGPRA Liaison, Fort Lewis College, 1000 Rim Drive, Durango, CO 81301, telephone (970) 247-7438, email fine_k@fortlewis.edu.

SUPPLEMENTARY INFORMATION: Notice is here given in accordance with the Native American Graves Protection and Repatriation Act (NAGPRA), 25 U.S.C. 3005, of the intent to repatriate cultural items under the control of Fort Lewis College, Durango, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

All 248 items in this notice were taken from Ancestral Puebloan burials located in La Plata County, CO (164 items), Montezuma County, CO (83 items), and Dolores County, CO (one item), and they belong to either the Homer Root Ledger Collection (89 items) or the Charles McClain Collection (159 items). (The Root and McClain collections also contain items from New Mexico and Arizona, but this notice only concerns objects located in the three Colorado counties.) Both collections are currently stored in the Fort Lewis College Center of Southwest Studies curation facility.

The Homer Root Ledger Collection is comprised of items donated to or acquired by the Fort Lewis College Museum. Homer Emerson Root (1896-1977) was a Michigan-born and Colorado-raised Methodist minister who was appointed Curator of the Fort Lewis College Museum after retiring from the ministry in 1953. From 1958-1968, he kept five detailed and elaborately detailed ledger books in which museum (and other) items were skillfully rendered in ink and oil color. These items were accompanied by catalog cards. A self-trained archeologist and artist, Root directed FLC archeological field schools in the 1960s. Root had strong connections with avocational archeologists in the region who often donated objects they had acquired to the College Museum.

The items in the Charles McLain Collection were collected prior to 1970. They were accessioned in 2001 and 2008, following two donations from McClain's daughters, Katherine McLain Bergfield and Margaret “Peggy” Fearing. The donations were accompanied by McLain's personal, handwritten catalog cards, which usually included documentation on the funerary context of the vessels and vague locational information. Many of the items in the McLain collection were amassed through Charles McClain's extensive collecting activities. Two of the items identified as unassociated funerary objects were acquired through a trade with ceramicist Norman “Ted” Oppelt.

Homer Root Ledger Collection From La Plata County, CO (63 items)

In 1960, one item was removed from a burial during the construction of St. Paul's Lutheran Church, located at 2611 Junction Street, Durango, CO. The one item is a jar.

Around 1961, five items were removed from burials at multiple archeological sites on Ewing Mesa by W.D. Ewing and Homer Root. The five items are three bowls and two jars.

Around 1962, one item was removed (likely by Zeke Flora) from a burial at a site known as Ignacio 12:10, located just south of Animas City Mountain, Durango, CO. The one item is a bowl.

Around 1962, one item was removed by Zeke Flora from the burial of a juvenile individual at a site recorded as Ignacio 12:23, whose exact location is unknown today. The one item is a bowl.

Around 1964, two items were removed by J.C. Miller from an unidentified site near Indian Creek, located 10 miles south of Durango and west of the Animas River. The items were found lying near the cranium of an extended adult individual interred in a refuse midden. The two items are one jar and one ceramic pipe.

Around 1964, one item was removed by J.C. Miller from an Ancestral Puebloan burial at an unidentified site located on a ridge west of Marvel. The one item is an olla.

Sometime during 1964-65, 13 items were removed by J.C. Miller from burials at multiple archeological sites in the Blue Mesa area, located five miles south of Durango, CO. Some items were recorded originally as having been associated with additional items that were catalogued but have not yet been located. Others were associated with each other in extended burial sites that were covered by cobblestones and then by domestic refuse. The 13 items are six bowls, three jars, one ladle, one hammerstone, one knife, and one pitcher.

In the summer of 1966, 27 cultural items were removed from burials at the Sacred Ridge site (5MT9399), southwest of Durango, CO, by Homer Root while directing a Fort Lewis College archeological field school. The site lay in Ridges Basin, a ranch owned by Mike Bodo where, for many years, the public could search for fossils, stones, and “Indian relics.” Those activities had resulted in the destruction of archeological graves, structures, and trash mounds. After 1966, the site was subject to multiple archeological testing activities. Today, it lies beneath Lake Nighthorse as a result of the Animas-La Plata project. The 27 items are one metate, 11 bowls, eight jars, six pitchers, and one effigy vessel.

In 1967, 12 items were removed from burials at the Pasture Ruin sites (5LP177, 5LP179, and 5LP243) by Homer Root while directing a Fort Lewis College archeological field school conducting salvage work at the Bodo Ranch prior to plowing by landowner Mike Bodo. The 12 items are three bowls, four pitchers, three jars, one “implement” made of non-human bone, and one sandstone burial slab.

Charles McClain Collection From La Plata County, CO (101 items)

Sometime before 1970, 65 items were collected from 17 burials located on Blue Mesa. The 65 items are 21 jars, 28 bowls, 14 pitchers, and two effigy vessels.

Sometime before 1970, 31 items were collected from burials on the private property of C.A. Brown Wild Horse (Florida) Mesa, located in Durango, CO. The 31 items are seven pitchers, 12 bowls, eight jars, one seed jar, one effigy vessel, one lid, and one pipe.

Sometime before 1970, four items were disinterred from adult burials located in the Marvel area of western La Plata County. The four items are two pipes and two bowls.

Sometime before 1970, one item was disinterred from a burial at the Bodo Point site. The one item is a bowl.

Homer Root Collection From Montezuma County, CO (25 items)

Around September of 1936, three items were removed from adult burials at the Yellow Jacket complex (5MT5) by Homer Root. The three items are one mortuary slab and two bowls.

At an unknown date (but recorded in 1961 and 1964), 17 items were removed by Homer Root from adult burials at an unidentified site within the Herren Farm Complex, located on Stanley Ranch. The 17 items are 10 stones (including hematite, copper ore, and agate), two shaped sandstones, one river cobble ground stone, three bowls, and one jar.

At an unknown date (but recorded in 1964), four items were removed from adult burials at an unidentified site located on Stanley Ranch. The four items are two bowls, one jar, and one stone slab of river cobble.

Around 1964, one item was removed by a rancher while plowing his field in the Goodman Point area. (Although the rancher found a second mug at the same time, the location of that mug is unknown.) The one item is a mug.

Charles McClain Collection from Montezuma County, CO (58 items)

Sometime before 1970, 53 items were removed from burials on the property of Warren Griffith, located at the head of Yellow Jacket Canyon. The 53 items are 23 bowls, nine ladles, one canteen, four mugs, 10 jars, four kiva jars, one effigy vessel, and one pitcher.

Sometime before 1970, five items were removed from adult burials at the Herren Farms Site Complex (5MT2516). The site was situated on the property of Ed Herren, located at the head of Ruin Canyon, near Ackmen. The five items are two mugs, one bowl, one jar, and one canteen.

Homer Root Collection From Dolores County, CO (1 item)

In 1937, one item was removed by National Youth Administration workers from an Ancestral Puebloan adult burial located southeast of the Sago School site. The item was given to the Durango Public Library by Lola Sanders and was later donated to Fort Lewis College by Helen Sloan Daniels. The one item is a mug.

The cultural affiliation of the unassociated funerary objects was determined through the following lines of evidence: geographical, biological (drawings were made of human remains found with the objects, but the whereabouts of the remains are unknown), kinship, archeological, folklore, oral tradition, historical, and expert opinion. This decision was informed by information gathered from multiple rounds of face-to-face and written tribal consultations that took place in 2018, 2019, and 2020; artifact analysis; provenance research; and a thorough review of archeological, ethnographic, and oral historical literature. Ancestral Puebloan ceramic typologies helped to identify technological traditions, as well as chronological and geographical attributes of ceramic manufacture.

Determinations Made by Fort Lewis College

Officials of the Fort Lewis College, have determined that:

• Pursuant to 25 U.S.C. 3001(3)(B), the 248 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Pueblo of Acoma, New Mexico.

Additional Requestors and Disposition

Lineal descendants or representatives of any Indian Tribe or Native Hawaiian organization not identified in this notice who wish to claim these cultural items should submit a written request with information in support of the claim to Kathleen S. Fine-Dare, Ph.D., Tribal Liaison, Fort Lewis College, 1000 Rim Drive, Durango, CO 81301, telephone (970) 247-7438, email fine_k@fortlewis.edu, by April 21, 2021. After that date, if no additional claimants have come forward, transfer of control of the unassociated funerary objects to the Pueblo of Acoma, New Mexico may proceed.

Fort Lewis College, via the NAGPRA Liaison, is responsible for notifying the Pueblo of Acoma, New Mexico that this notice has been published.

Dated: March 4, 2021.
Melanie O'Brien,
Manager, National NAGPRA Program.

[FR Doc. 2021-05886 Filed 3-19-21; 8:45 am]

BILLING CODE 4312-52-P